Memorandum of December 23, 2016

Providing an Order of Succession Within the National Endowment for the Arts

Memorandum for the Chairperson of the National Endowment for the Arts

By the authority vested in me as President by the Constitution and the laws of the United States of America, including the Federal Vacancies Reform Act of 1998, as amended, 5 U.S.C. 3345 et seq. (the “Act”), it is hereby ordered that:

Section 1. Order of Succession. Subject to the provisions of section 2 of this memorandum, and to the limitations set forth in the Act, the following officials of the National Endowment for the Arts, in the order listed, shall act as the Chairperson of the National Endowment for the Arts (Chairperson) and perform the functions and duties of the office of the Chairperson during any period in which the Chairperson has died, resigned, or otherwise become unable to perform the functions and duties of the office of the Chairperson:

(a) Senior Deputy Chairman;

(b) Deputy Chairman for Management and Budget;

(c) Chief of Staff; and

(d) Director of Strategic Communications and Public Affairs.

Sec. 2. Exceptions. (a) No individual who is serving in an office listed in section 1(a)-(d) of this memorandum in an acting capacity shall, by virtue of so serving, act as Chairperson pursuant to this memorandum.

(b) No individual who is serving in an office listed in section 1(a)-(d) of this memorandum shall act as Chairperson unless that individual is otherwise eligible to so serve under the Act.

(c) Notwithstanding the provisions of this memorandum, the President retains discretion, to the extent permitted by law, to depart from this memorandum in designating an acting Chairperson.

Sec. 3. General Provisions. (a) This memorandum is not intended to, and does not, create any right or benefit, substantive or procedural, enforceable at law or in equity by any party against the United States, its departments, agencies, or entities, its officers, employees, or agents, or any other person.

(b) You are authorized and directed to publish this memorandum in the Federal Register.

THE WHITE HOUSE,

Washington, December 23, 2016

[FR Doc. 2016-31801

Filed 12-29-16; 8:45 am]

Billing code 7537-01-P